ENVIRONMENTAL PROTECTION AGENCY

[EPA-HQ-OW-2015-0714; FRL-9970-21-OW]

Notice of a Public Meeting of the National Drinking Water Advisory Council

AGENCY: Environmental Protection Agency (EPA).

ACTION: Notice of a public meeting.

SUMMARY: The U.S. Environmental Protection Agency (EPA) is announcing a public meeting of the National Drinking Water Advisory Council (NDWAC), as authorized under the Safe Drinking Water Act. During this meeting, the NDWAC will focus discussions on developing recommendations for the EPA Administrator on Health Advisory Communications.

DATES: The meeting on December 7, 2017, will be held from 9:30 a.m. to 4:00 p.m., eastern time; and December 8, 2017, from 8:30 a.m. to noon, eastern time.

ADDRESSES: The public meeting will be held at the U.S. Environmental Protection Agency, William Jefferson Clinton (WJC) East Building, Rooms 1117A & B, 1201 Constitution Avenue NW., Washington, DC 20460.

FOR FURTHER INFORMATION CONTACT: For more information about this meeting or to request written materials, contact Tracey Ward of the Office of Ground Water and Drinking Water, U.S. Environmental Protection Agency; by phone at 202-564-3796 or by email at ward.tracey@epa.gov. For additional information about the NDWAC meeting, please visit http://water.epa.gov/drink/ndwac/ or www.regulations.gov (search for Docket ID No. EPA-HQ-OW-2015-0714).

SUPPLEMENTARY INFORMATION: Details About Participating in the Meeting: Teleconferencing will be available during the meeting. The number of teleconference connections available for the meeting is limited and will be offered on a first-come, first-served basis. The teleconference number is (1) 866-299-3188; when prompted, enter conference code 202 564-7347.

Dated: October 23, 2017.
Peter Grevatt,
Director, Office of Ground Water and Drinking Water.

[FR Doc. 2017-23566 Filed 10-30-17; 8:45 am]

BILLING CODE 6560-50-P